DEPARTMENT OF TRANSPORTATION

Federal Aviation Administration

14 CFR Part 39

[Docket No. FAA-2011-0223; Directorate Identifier 2010-NM-161-AD]

RIN 2120-AA64

Airworthiness Directives; Goodrich Evacuation Systems Approved Under Technical Standard Order (TSO) TSO-C69b and Installed on Airbus Airplanes

AGENCY: Federal Aviation Administration (FAA), DOT.

ACTION: Supplemental notice of proposed rulemaking (NPRM); reopening of comment period.

SUMMARY: We are revising an earlier proposed airworthiness directive (AD) for Goodrich Evacuation Systems approved under Technical Standard Order (TSO) TSO-C69b and installed on Airbus Model A330-200 and -300 series airplanes, Model A340-200 and -300 series airplanes, and Model A340-500 and -600 series airplanes. That NPRM proposed to supersede an existing AD. That NPRM proposed inspecting to determine the part number of the pressure relief valves on the affected Goodrich evacuation systems, replacing certain pressure relief valves, and adding airplanes to the applicability. That NPRM was prompted by reports that during workshop testing, certain pressure relief valves, which were required by the existing AD, did not seal and allowed the pressure in certain slides/rafts to fall below the minimum raft mode pressure for the unit. This action revises that NPRM by adding certain airplanes to the applicability. We are proposing this supplemental NPRM to correct the unsafe condition on these products. Since these actions impose an additional burden over that proposed in the NPRM, we are reopening the comment period to allow the public the chance to comment on these proposed changes.

DATES: We must receive comments on this supplemental NPRM by February 13, 2012.

ADDRESSES: You may send comments, using the procedures found in 14 CFR 11.43 and 11.45, by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Goodrich Corporation, Aircraft Interior Products, ATTN: Technical Publications, 3414 South Fifth Street, Phoenix, Arizona 85040; phone: (602) 243-2270; email: george.yribarren@goodrich.com; Internet: http://www.goodrich.com/TechPubs. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: (800) 647-5527) is in the ADDRESSES section. Comments will be available in the AD docket shortly after receipt.

FOR FURTHER INFORMATION CONTACT: Tracy Ton, Aerospace Engineer, Cabin Safety/Mechanical and Environmental Systems Branch, ANM-150L, FAA, Los Angeles Aircraft Certification Office, 3960 Paramount Boulevard, Lakewood, California 90712-4137; phone: (562) 627-5352; fax: (562) 627-5210; email: Tracy.Ton@faa.gov.

SUPPLEMENTARY INFORMATION:

Comments Invited

We invite you to send any written relevant data, views, or arguments about this proposed AD. Send your comments to an address listed under the ADDRESSES section. Include “Docket No. FAA-2011-0223; Directorate Identifier 2010-NM-161-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to include an AD that would apply to Goodrich evacuation systems approved under TSO-C69b and installed on certain Model A330-200 and -300 series airplanes, Model A340-200 and -300 series airplanes, and Model A340-541 and -642 airplanes. That NPRM was published in the Federal Register on March 21, 2011 (76 FR 15229). That NPRM proposed to supersede AD 2007-23-01, Amendment 39-15247 (72 FR 62568, November 6, 2007). That NPRM proposed to require inspecting to determine the part number of the pressure relief valves on the affected Goodrich evacuation systems, replacing certain pressure relief valves with new improved valves, and marking the system identification placard on the girt of the replaced part. That NPRM also proposed to add Model A330-223F and -243F airplanes to the applicability.

Actions Since AD 2007-23-01, Amendment 39-15247 (72 FR 62568, November 6, 2007) Was Issued

Since we issued AD 2007-23-01, Amendment 39-15247 (72 FR 62568, November 6, 2007, Model A330-302 and -303 have been added to the United States Type Certificate Data Sheet A46NM and we have determined they are affected by the identified unsafe condition.

Comments

We gave the public the opportunity to comment on the previous NPRM (76 FR 15229, March 21, 2011). The following presents the comments received on the NPRM and the FAA's response to each comment.

Support for NPRM (76 FR 15229, March 21, 2011)

Hawaiian Airlines concurred with the NPRM (76 FR 15229, March 21, 2011).

Request To Use Later Revisions of Goodrich Service Information

Airbus stated that there are later revisions of the service information that should be referenced in the NPRM (76 FR 15229, March 21, 2011). Airbus stated that these revisions are Goodrich Service Bulletin 7A1508/09/10/39-25-373, Revision 3, dated March 30, 2011; and Goodrich Service Bulletin 4A3928/4A3934-25-374, Revision 2, dated March 30, 2011. Airbus did not provided justification for the request.

We agree, because Goodrich Service Bulletin 7A1508/09/10/39-25-373, Revision 3, dated March 30, 2011; and Goodrich Service Bulletin 4A3928/4A3934-25-374, Revision 2, dated March 30, 2011; are the latest revisions and do not change the actions proposed in this supplemental NPRM. We have revised the supplemental NPRM to refer to these revisions. We have also revised paragraph (j) of the supplemental NPRM to give credit for doing the applicable actions specified in this supplemental NPRM before the effective date of the AD in accordance with Goodrich Service Bulletin 7A1508/09/10/39-25-373, Revision 2, dated May 8, 2009; and Goodrich Service Bulletin 4A3928/4A3934-25-374, Revision 1, dated May 8, 2009.

Request To Include Changing the Firing Pin Cable of Right Hand Configurations in This NPRM (76 FR 15229, March 21, 2011)

Airbus and the European Aviation Safety Agency (EASA) requested that the NPRM (76 FR 15229, March 21, 2011) be revised to include replacing certain firing pin cables. Airbus stated that they want the NPRM to include changing of the firing pin cable of right hand configurations of part number (P/N) 4A3928 series escape slides. Airbus stated that the NPRM preamble section “Differences Between the Proposed AD and the Service Information” makes a statement that changes to certain firing pin cables are not included in the AD. Airbus stated that the change to the firing pin cables improves the reliability of the automatic inflation as required by part 25 of the Federal Aviation Regulations (25.810(a)(1)(i)). EASA stated that marking the modified slide unit without accomplishing this action would be impossible.

We do not agree. This supplemental NPRM proposes to supersede AD 2007-23-01, Amendment 39-15247, (72 FR 62568, November 6, 2007), to correct certain pressure relief valves that did not seal and allowed the pressure in slides/rafts to fall below the minimum raft mode pressure for the unit and add airplanes to the applicability. This supplemental NPRM is necessary to prevent loss of pressure in the escape slides/rafts after an emergency evacuation, which could result in inadequate buoyancy to support the raft's passenger capacity during ditching and increase the chance for injury to raft passengers. The purpose of an AD is to correct an identified unsafe condition in airplanes. We consider the firing pin cable replacement a design improvement and not an action that addresses the identified unsafe condition. Additionally, Goodrich Service Bulletin 4A3928/4A3934-25-374, Revision 1, dated May 8, 2009, included the replacement of firing pin cable P/N 4A3622-3 for only Model A340-500 Door 3 right hand slides (P/N 4A3928-4 and -6) as an improvement of the automatic inflation reliability. Goodrich Service Bulletin 4A3928/4A3934-25-374, Revision 1, dated May 8, 2009, did not specify replacement of firing pin cable for other airplanes in the applicability of this supplemental NPRM. We have not changed the supplemental NPRM in this regard.

Request To Use Generic Term Model A330-200 and -300, and Model A340-200 and -300 Airplanes

Airbus requested that the generic term Model A330-200 and -300 airplanes be used in lieu of Model A330-201, -202, -203, -223, -223F, -243, -243F, -301, -302, -303, -321, -322, -323, -341, -342, and -343 airplanes; and Model A340-200 and -300 airplanes be used in lieu of Model A340-211, -212, -213, -311, -312, and -313 airplanes; in paragraph (c) of the NPRM (76 FR 15229, March 21, 2011).

We agree. We have revised paragraph (c) of this AD accordingly.

Request To Use Generic Term Model A340-500 and -600 Airplanes

Airbus requested that generic term Model A340-500 and -600 airplanes be used in lieu of Model A340-541 and -642 in applicability paragraph (c) of the NPRM (76 FR 15229, March 21, 2011). As justification for its request, Airbus stated that evacuation slides and included equipment (pressure reducing valve) may be removed from Model A340-542 airplanes and be installed on Model A340-541 and -642 airplanes.

We agree. We have revised paragraph (c) of this AD accordingly.

Request To Include Model A340-542 and A340-643 Airplanes

EASA requested that Model A340-542 and A340-643 airplanes be included in the AD applicability. EASA requested the change to allow it to adopt future FAA ADs without changes.

We agree to revise the applicability of the AD. As stated previously, we have revised paragraph (c) of this AD to include the generic term Model A340-500 and -600 series airplanes.

FAA's Determination

We are proposing this supplemental NPRM because we evaluated all the relevant information and determined the unsafe condition described previously is likely to exist or develop in other products of the same type design. Certain changes described above expand the scope of the NPRM (76 FR 15229, March 21, 2011). As a result, we have determined that it is necessary to reopen the comment period to provide additional opportunity for the public to comment on this supplemental NPRM.

Proposed Requirements of the Supplemental NPRM

This supplemental NPRM would require accomplishing the actions specified in the service information described previously. The supplemental NPRM also adds Model A330-302 and -303 airplanes to the applicability.

Costs of Compliance

We estimate that this proposed AD affects 41 airplanes of U.S. registry.

We estimate the following costs to comply with this proposed AD:

Estimated Costs
Action | Labor cost | Parts cost | Cost per product | Cost on U.S. operators
Inspection to determine part numbers | 1 work-hour × $85 per hour = $85 | $0 | $85 | Up to $3,485.

We estimate the following costs to do any necessary replacements that would be required based on the results of the proposed inspection. We have no way of determining the number of aircraft that might need these replacements.

On-Condition Costs
Action | Labor cost | Parts cost | Cost per product
Valve replacement | 1 work-hour × $85 per hour = $85 | $775 | $860 per slide.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive

(AD) 2007-23-01, Amendment 39-15247 (72 FR 62568, November 6, 2007), and adding the following new AD:

Goodrich (Formerly BF Goodrich): Docket No. FAA-2011-0223; Directorate Identifier 2010-NM-161-AD.

(a) Comments Due Date

We must receive comments by February 13, 2012.

(b) Affected ADs

This AD supersedes AD 2007-23-01, Amendment 39-15247 (72 FR 62568, November 6, 2007).

(c) Applicability

This AD applies to Goodrich evacuation systems approved under Technical Standard Order (TSO) TSO-C69b, as installed on the Airbus airplanes, certificated in any category, identified in paragraphs (c)(1), (c)(2), and (c)(3) of this AD.

(1) Model A330-200 and -300 series airplanes, and Model A330-200 freighter series airplanes, as identified in Goodrich Service Bulletin 7A1508/09/10/39-25-373, Revision 3, dated March 30, 2011.

(2) Model A340-200 and -300 series airplanes, as identified in Goodrich Service Bulletin 7A1508/09/10/39-25-373, Revision 3, dated March 30, 2011.

(3) Model A340-500 and -600 series airplanes, as identified in Goodrich Service Bulletins 7A1508/09/10/39-25-373, Revision 3, dated March 30, 2011; and 4A3928/4A3934-25-374, Revision 2, dated March 30, 2011.

(d) Subject

Joint Aircraft System Component (JASC)/Air Transport Association (ATA) of America Code 2560, Emergency Equipment.

(e) Unsafe Condition

This AD was prompted by reports that during workshop testing, certain pressure relief valves did not seal and allowed the pressure in certain slides/rafts to fall below the minimum raft mode pressure for the unit. We are issuing this AD to prevent loss of pressure in the escape slides/rafts after an emergency evacuation, which could result in inadequate buoyancy to support the raft's passenger capacity during ditching and increase the chance for injury to raft passengers.

(f) Compliance

Comply with this AD within the compliance times specified, unless already done.

(g) Inspection

Within 36 months after the effective date of this AD, inspect the evacuation systems to determine whether any pressure relief valve having part number (P/N) 4A3641-1, 4A3791-3, 4A3641-26, or 4A3791-6 is installed. A review of airplane maintenance records or the system identification placard on the girt is acceptable in lieu of this inspection if the part number of the pressure relief valve can be conclusively determined from that review.

(h) Part Replacement

If any valve having P/N 4A3641-1, 4A3791-3, 4A3641-26, or 4A3791-6 is identified during the inspection or review specified in paragraph (g) of this AD: Before further flight, do the applicable actions required by paragraphs (h)(1) and (h)(2) of this AD:

(1) Replace all pressure relief valves having P/Ns 4A3641-1 and 4A3791-3 with pressure relief valves having P/N 115815-1, and mark the system identification placard on the girt, in accordance with the Accomplishment Instructions of Goodrich Service Bulletin 7A1508/09/10/39-25-373, Revision 3, dated March 30, 2011.

(2) Replace all pressure relief valves having P/Ns 4A3641-26 and 4A3791-6 with pressure relief valves having P/N 115815-1 (for evacuation systems having P/N 4A3934 series units) or 115815-2 (for evacuation systems P/N 4A3928 series units); and mark the system identification placard on the girt; in accordance with the Accomplishment Instructions of Goodrich Service Bulletin 4A3928/4A3934-25-374, Revision 2, dated March 30, 2011.

(i) Parts Installation

As of the effective date of this AD, no person may install a pressure relief valve having P/N 4A3641-1, 4A3791-3, 4A3791-6, or 4A3641-26 in the evacuation system on any airplane.

(j) Credit for Actions Accomplished in Accordance With Previous Service Information

Actions accomplished before the effective date of this AD in accordance with Goodrich Service Bulletin 7A1508/09/10/39-25-373, dated March 31, 2008, Goodrich Service Bulletin 7A1508/09/10/39-25-373, Revision 1, dated August 1, 2008, or Goodrich Service Bulletin 7A1508/09/10/39-25-373, Revision 2, dated May 8, 2009; or Goodrich Service Bulletin 4A3928/4A3934-25-374, dated July 18, 2008, or Goodrich Service Bulletin 4A3928/4A3934-25-374, Revision 1, dated May 8, 2009; as applicable; are acceptable for compliance with the corresponding requirements of this AD.

(k) Alternative Methods of Compliance (AMOCs)

(1) The Manager, Los Angeles Aircraft Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(l) Related Information

(1) For more information about this AD, contact Tracy Ton, Aerospace Engineer, Cabin Safety/Mechanical and Environmental Systems Branch, ANM-150L, FAA, Los Angeles Aircraft Certification Office, 3960 Paramount Boulevard, Lakewood, California 90712-4137; phone: (562) 627-5352; fax: (562) 627-5210; email:

(2) For service information identified in this AD, contact Goodrich Corporation, Aircraft Interior Products, ATTN: Technical Publications, 3414 South Fifth Street Phoenix, Arizona 85040; phone: (602) 243-2270; email: http://www.george.yribarren@goodrich.com; Internet: http://www.goodrich.com/TechPubs. You may review copies of the referenced service information at the FAA, Transport Airplane Directorate, 1601 Lind Avenue SW., Renton, Washington. For information on the availability of this material at the FAA, call (425) 227-1221.

Issued in Renton, Washington, on December 16, 2011.
Ali Bahrami,
Manager, Transport Airplane Directorate, Aircraft Certification Service.

[FR Doc. 2011-33359 Filed 12-28-11; 8:45 am]

BILLING CODE 4910-13-P